DEPARTMENT OF TRANSPORTATION

Pipeline and Hazardous Materials Safety Administration

[Docket No. PHMSA-2005-23198]

Pipeline Safety: Mechanical Damage Technical Workshop

AGENCY: Pipeline and Hazardous Materials Safety Administration (PHMSA), DOT.

ACTION: Notice of workshop.

SUMMARY: PHMSA and the National Association of Pipeline Safety Representatives (NAPSR) are hosting this workshop to address pipeline safety issues with mechanical damage. Several pipeline industry trade associations are participating in the development of the workshop agenda. Mechanical damage from third party intrusion and latent defects caused during pipeline construction remains a leading cause of major incidents. This workshop will provide a forum to share information on mechanical damage among pipeline operators, state agencies, technical experts, and the public. Participants will discuss and learn about prevention, detection, and characterization technologies for mechanical damage. This information will aid PHMSA in coordinating actions to address the problems mechanical damage poses in operating natural gas and hazardous liquid pipelines.

DATES: PHMSA will hold the meeting on Tuesday, February 28, 2006, from 8 a.m. to 4:30 p.m. and Wednesday, March 1, 2006, from 9 a.m. to 4:30 p.m.

ADDRESSES: PHMSA will hold the meeting at the Houston Marriott Westchase, 2900 Briar Park Drive, Houston, Texas 77042. The telephone number for hotel reservations is (713) 978-7400 or 1-(800) 452-5110.

FOR FURTHER INFORMATION CONTACT: Please contact Robert Smith at (202) 366-3814, or robert.w.smith@dot.gov, regarding the subject matter of this notice. For information regarding hotel accommodations for individuals with disabilities, please contact the hotel staff at (713) 978-7400.

SUPPLEMENTARY INFORMATION:

Who Should Attend: PHMSA urges Federal and State pipeline safety regulators and operators of natural gas transmission and distribution, and hazardous liquid pipelines to attend. Workshop attendees will discuss and see existing and future technology used to prevent, detect and characterize mechanical damage.

Registration with PHMSA: To facilitate meeting planning, advance registration is strongly encouraged. Please visit the Meeting Registration and Document Commenting webpage (http://primis.phmsa.dot.gov/meetings/) where PHMSA will post details about the meeting.

Hotel Registration: PHMSA has reserved a room rate of $92.00 per night for the first 100 reservations for both Monday, February 27 and Tuesday, February 28, 2006. Mention the Department of Transportation/PHMSA or the Mechanical Damage Technical Workshop when speaking with the hotel. The hotel must receive reservations by attendees on or before, February 13, 2006.

Background: PHMSA and NAPSR are hosting this workshop to address pipeline safety issues with mechanical damage. Several pipeline industry trade associations are participating in the development of the workshop agenda. The participating trade associations are the American Gas Association, Association of Oil Pipe Lines, American Public Gas Association, American Petroleum Institute, Common Ground Alliance, Interstate Natural Gas Association of America, In Line Inspection Association and the Pipeline Research Council International. The results of this workshop and the information shared will further research on mechanical damage and document the state of current damage prevention, detection and characterization technology.

Mechanical damage from third party intrusion and latent defects caused during pipeline construction remains a leading cause of major pipeline incidents. Mechanical damage defect types are commonly identified as denting, metal loss, metal deformation, and cracking. Several existing technologies are in practice to prevent, detect and characterize damage to pipelines. Regulators, operators, and commercial vendors have varying levels of confidence in these technologies. Several organizations fund or conduct research addressing mechanical damage technology. Organizations developing mutual technology goals will lead to aligning resources, better synergy, and better dissemination of information about new technologies. This will promote pipeline safety across the industry. The workshop aims to identify confidence levels with existing technologies, build research synergy, and gauge the state of our efforts to address mechanical damage.

Issued in Washington, DC, on December 30, 2005.
Stacey L. Gerard,
Associate Administrator for Pipeline Safety.

[FR Doc. 06-78 Filed 1-4-06; 8:45 am]

BILLING CODE 4910-60-P